CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled AmeriCorps Application Instructions: State Competitive, State Education Award Program, National Direct, National Direct Education Award Program, National Professional Corps, Indian Tribes, States and Territories without Commissions, and National Planning, to the Office of Management and Budget (OMB) for review and approval in accordance with the Paperwork Reduction Act of 1995, Public Law 104-13, (44 U.S.C. Chapter 35). A copy of this ICR, with applicable supporting documentation, may be obtained by contacting the Corporation for National and Community Service, AmeriCorps, Amy Borgstrom, Associate Director of Policy, (202) 606-6930, or by e-mail at ABorgstrom@cns.gov. Individuals who use a telecommunications device for the deaf (TTY-TDD) may call (202) 606-3472 between 8:30 a.m. and 5 p.m. eastern time, Monday through Friday.

ADDRESSES: Comments may be submitted, identified by the title of the information collection activity, to Office of Information and Regulatory Affairs, Attn: Ms. Rachel Potter, OMB Desk Officer for the Corporation for National and Community Service, by any of the following two methods within 30 days from the date of publication in this Federal Register:

(a) By fax to: (202) 395-6974, Attention: Ms. Rachel Potter, OMB Desk Officer for the Corporation for National and Community Service; and

(b) Electronically by e-mail to: Rachel_F._Potter@omb.eop.gov.

SUPPLEMENTARY INFORMATION: The OMB is particularly interested in comments that:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Current Action

Description: The Corporation for National and Community Service (the “Corporation”) has amended the regulations that apply to the AmeriCorps national service program to clarify the Corporation's requirements for program sustainability, performance measures and evaluation, capacity-building activities by AmeriCorps members, qualifications for tutors, and other requirements. The implementation of these changes through the rulemaking process includes ensuring the Corporation's information collection instruments accurately reflect these issues. In an effort to be compliant while maintaining functions essential to the operations of each State Commission and AmeriCorps program, we are submitting the enclosed request to OMB for approval of information collection activities. This submission includes application instructions for AmeriCorps State Competitive, State Education Award, National Direct, National Direct Education Award Program, National Professional Corps, Indian Tribes, States and Territories without Commissions, and National Planning programs.

Type of Review: Renewal; previously granted emergency approval by OMB.

Agency: Corporation for National and Community Service.

Title: AmeriCorps Application Instructions: State Competitive, State Education Award Program, National Direct, National Direct Education Award Program, National Professional Corps, Indian Tribes, States and Territories without Commissions, and National Planning.

OMB Number: 3045-0047.

Agency Number: None.

Affected Public: Nonprofit organizations, State, Local and Tribal.

Total Respondents: 2,000.

Frequency: Annually.

Average Time Per Response: 16 hours.

Estimated Total Burden Hours: 32,000 hours.

Total Burden Cost (capital/startup): None.

Total Burden Cost (operating/maintenance): None.

Dated: February 16, 2006.
Elizabeth D. Seale,
Interim Director, AmeriCorps State and National COO, Corporation for National and Community Service.

[FR Doc. E6-2593 Filed 2-23-06; 8:45 am]

BILLING CODE 6050-$$-P